SMALL BUSINESS ADMINISTRATION

[License No. 05/05-0316]

River Cities Financial Institutions Fund, L.P.: Notice Seeking Exemption Under Section 312 of the Small Business Investment Act, Conflicts of Interest

Notice is hereby given that River Cities Financial Institutions Fund, L.P., 221 East Fourth Street, Suite 2240, Cincinnati, OH 45202, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). River Cities Financial Institutions Fund, L.P. proposes to provide equity financing to Tissue Tech, Inc. 8305 NW 27th Street, Suite 101, Miami, FL 33122; Trax Technologies, Inc., 14500 N. Northsight Blvd., Scottsdale, AZ 85260; and StepLeader, 819 W Hargett St., Raleigh, NC 27603. The proceeds will be used to fund general working capital needs of Tissue Tech, Inc., Trax Technologies, Inc., and StepLeader.

The financing is brought within the purview of § 107.730(a)(1) of the Regulations because River Cities Capital Fund V, L.P. and River Cities Capital Fund V NQP, L.P. Associates of River Cities Financial Institutions Fund, L.P., together own more than ten percent of Trax Technologies, Inc., and StepLeader, and therefore this transaction is considered a financing to an Associate requiring SBA prior written exemption.

Notice is hereby given that any interested person may submit written comments on the transaction, within fifteen days of the date of this publication, to the Associate Administrator for Investment, U.S. Small Business Administration, 409 Third Street SW., Washington, DC 20416.

Dated: June 18, 2014.
Javier E. Saade,
Associate Administrator for Office of Investment and Innovation.

[FR Doc. 2014-15142 Filed 6-26-14; 8:45 am]

BILLING CODE P